DEPARTMENT OF HEALTH AND HUMAN SERVICES

42 CFR Part 59

RIN: 0940-AA00

Standards of Compliance for Abortion-Related Services in Family Planning Services Projects

Correction

In rule document 00-16758 beginning on page 41270 in the issue of Monday, July 3, 2000, make the following corrections:

§59.1 [Corrected]

1. On page 41278, second column, fourth line, “(42 U.S.C.3200)” should read “(42 U.S.C. 300)”.

§59.2 [Corrected].

2. On the same page, third column, sixth line of the definition State, “outlaying” should read “outlying”.

3. On the same page, third column, seventh line of the definition State, “Wage” should read “Wake”.

§59.5 [Corrected]

4. On page 41279, first column, sixth line of paragraph (a)(1), “participated” should read “participate”.

5. On page 41279, first column, first line of paragraph (a)(4), “of” should read “to”.

6. On the same page, first column, fourth line of paragraph (a)(4), “martial” should read “marital”.

7. On the same page, first column, first line of paragraph (a)(5), insert “as” in front of “a”.

8. On the same page, first column, second line of paragraph (a)(5)(i), insert “be” in front of “provided”.

§59.12 [Corrected]

9. On page 41280, third column, sixth line, “orb” should read “or”.

[FR Doc. C0-16758 Filed 8-9-00; 8:45 am]

BILLING CODE 1505-01-D